DEPARTMENT OF HEALTH AND HUMAN SERVICES

Centers for Medicare & Medicaid Services

[CMS-1789-N]

Medicare Program; Request for Nominations to the Advisory Panel on Hospital Outpatient Payment

AGENCY: Centers for Medicare & Medicaid Services (CMS), HHS.

ACTION: Notice.

SUMMARY: The Centers for Medicare & Medicaid Services (CMS) is requesting nominations to fill vacancies on the Advisory Panel (the Panel) on Hospital Outpatient Payment (HOP). The purpose of the Panel is to advise the Secretary of the Department of Health and Human Services (the Secretary) and the Administrator of the Centers for Medicare & Medicaid Services (the Administrator) on the clinical integrity of the Ambulatory Payment Classification (APC) groups and their associated weights, supervision of hospital outpatient therapeutic services, and hospital outpatient prospective payment system (OPPS) OPPS APC rates for covered ambulatory surgical centers (ASC) procedures.

DATES: We are accepting HOP Panel member nominations submitted by February 13, 2023 5 p.m. eastern time. We may consider accepting submissions that are received after that date at our discretion.

ADDRESSES: Nominations must be submitted through the “Hospital Outpatient Payment (HOP) Panel Member Nomination” module on MEARIS™. To access the module, visit https://mearis.cms.gov to register, log in, and submit your nomination. CMS can only accept HOP Panel Member nominations that are submitted via MEARISTM.

Persons wishing to obtain further information may submit an email to the following email address: APCPanel@cms.hhs.gov.

News Media: Representatives should contact the CMS Press Office at (202) 690-6145.

Website: For additional information on the HOP Panel, updates to the Panel's activities, and submission of nominations to the HOP Panel, we refer readers to our website at http://www.cms.gov/Regulations-and-Guidance/Guidance/FACA/AdvisoryPanelonAmbulatoryPaymentClassificationGroups.html.

SUPPLEMENTARY INFORMATION:

I. Background

The Secretary of the Department of Health and Human Services (the Secretary) is required by section 1833(t)(9)(A) of the Social Security Act (the Act), and allowed by section 222 of the Public Health Service Act (PHS Act) to consult with an expert outside panel, that is, the Advisory Panel (the Panel) on Hospital Outpatient Payment (HOP) regarding the clinical integrity of the Ambulatory Payment Classification (APC) groups and relative payment weights that are components of the Medicare Hospital Outpatient Prospective Payment System (OPPS), the appropriate supervision level for hospital outpatient therapeutic services, and OPPS APC rates for covered ambulatory surgical center (ASC) procedures.

The Panel is governed by the provisions of the Federal Advisory Committee Act (FACA) (Pub. L. 92-463, enacted October 6, 1972), as amended (5 U.S.C. appendix 2), which sets forth standards for the formation and use of advisory panels. The Panel may consider data collected or developed by entities and organizations (other than the Department of Health and Human Services) as part of their deliberations.

We consider the technical advice provided by the Panel as we prepare the proposed and final rules to update the OPPS for the following calendar year (CY).

The current members of the Panel are:

• E.L. Hambrick, M.D., J.D., CMS Chairperson

• Terry Bohlke, C.P.A., C.M.A, M.H.A., C.A.S.C

• Carmen Cooper-Oguz, P.T., D.P.T, M.B.A, C.W.S, W.C.C

• Paul Courtney, M.D.

• Peter Duffy, M.D.

• Lisa Gangarosa, M.D.

• Bo Gately, M.B.A.

• Michael Kuettel, M.D., M.B.A, Ph.D.

• Scott Manaker, M.D., Ph.D.

• Matthew Wheatley, M.D., F.A.C.E.P

II. Request for Nominations; Criteria for Nominees

The Panel shall consist of a chair and up to 15 members who are full-time employees of hospitals, hospital systems, or other Medicare providers that are subject to the OPPS. The Panel may also include a representative of a provider with ASC expertise, who shall advise CMS only on OPPS APC rates, as appropriate, impacting ASC covered procedures within the context and purview of the Panel's scope. The Secretary or a designee selects the Panel membership based upon either self-nominations or nominations submitted by Medicare providers and other interested organizations of candidates determined to have the required expertise. For supervision deliberations, the Panel may include members that represent the interests of Critical Access Hospitals, who advise CMS only regarding the level of supervision for hospital outpatient therapeutic services. New appointments are made in a manner that ensures a balanced membership under the Federal Advisory Committee Act guidelines.

The HOP Panel currently consists of 9 panel members. Six additional vacancies will occur in CY 2023. The list of current HOP Panel members are located in the Background section of this notice, as well as on the Advisory Panel on Hospital Outpatient Payment Committee page, on the FACA database website at: https://www.facadatabase.gov/committee/committee.aspx?cid=1791&aid=76.

Panel members serve on a voluntary basis, without compensation, according to an advance written agreement; however, for the meetings, CMS has a special interest in ensuring, while taking into account the nominee pool, that the Panel is diverse in all respects of the following: Geography; rural or urban practice; race, ethnicity, sex, and disability; medical or technical specialty; and type of hospital, hospital health system, or other Medicare provider subject to the OPPS. Appointment to the HOP Panel shall be made without discrimination on the basis of age, race, ethnicity, gender, sexual orientation, disability, and cultural, religious, or socioeconomic status.

Based upon either self-nominations or nominations submitted through MEARIS™ by providers or interested organizations, the Secretary, or his or her designee, appoints new members to the Panel from among those candidates determined to have the required expertise. New appointments are made in a manner that ensures a balanced membership under the FACA guidelines.

Nominations for a person not serving on the committee may be reconsidered as committee vacancies arise, but should be updated and resubmitted no later than 3 years after the original nomination submittal to continue to be considered for committee vacancies. CMS will consider the submitted nominations unless they are withdrawn or the nominees' qualifications have changed. Nominations will be considered as vacancies occur. Nominations that were submitted through MEARIS™ prior to the publication of this notice, or in response to the Medicare Program; Request for Nominations to the Advisory Panel on Hospital Outpatient Payment notice (83 FR 3715) published in the January 26, 2018 Federal Register, will be given consideration, and do not need to be resubmitted in response to this notice.

The Panel must be balanced in its membership in terms of the points of view represented and the functions to be performed. Each panel member must be employed full-time by a hospital, hospital system, or other Medicare provider subject to payment under the OPPS (except for the critical access hospital (CAH) members, since CAHs are not paid under the OPPS). All members must have technical expertise to enable them to participate fully in the Panel's work. Such expertise encompasses hospital payment systems; hospital medical care delivery systems; provider billing systems; APC groups; Current Procedural Terminology codes; and alpha-numeric Health Care Common Procedure Coding System codes; and the use of, and payment for, drugs, medical devices, and other services in the outpatient setting, as well as other forms of relevant expertise. For supervision deliberations, the Panel shall have members that represent the interests of CAHs, who advise CMS only regarding the level of supervision for hospital outpatient therapeutic services.

It is not necessary for a nominee to possess expertise in all of the areas listed, but each must have a minimum of 5 years of experience and currently have full-time employment in his or her area of expertise. Generally, members of the Panel serve overlapping terms up to 4 years, based on the needs of the Panel and contingent upon the rechartering of the Panel. A member may serve after the expiration of his or her term until a successor has been sworn in.

Any interested person or organization may nominate qualified individuals. Self-nominations will also be accepted. Each nomination submitted in MEARIS™ must include the following:

• Letter of Nomination stating the reasons why the nominee should be considered.

• Curriculum vitae or resume of the nominee that includes an email address where the nominee can be contacted.

• Written and signed statement from the nominee that the nominee is willing to serve on the Panel under the conditions described in this notice and further specified in the Charter.

• The hospital or hospital system name and address, or CAH name and address, as well as all Medicare hospital and or Medicare CAH billing numbers of the facility where the nominee is employed.

Future updates or changes to the panel nomination process may be published in the Federal Register, posted on the CMS Advisory Panel for Hospital Outpatient Payment website, or included in updates to the MEARIS™ HOP Panel Member Nomination module.

III. The Charter

The Secretary rechartered the Panel in 2020 for a 2-year period effective through November 20, 2022. The current charter is accessible on the CMS website at https://www.cms.gov/Regulations-and-Guidance/Guidance/FACA/AdvisoryPanelonAmbulatoryPaymentClassificationGroups.

IV. Collection of Information Requirements

This document does not impose information collection requirements, that is, reporting, recordkeeping or third-party disclosure requirements. Consequently, there is no need for review by the Office of Management and Budget under the authority of the Paperwork Reduction Act of 1995 (44 U.S.C. 3501 et seq.).

The Administrator of the Centers for Medicare & Medicaid Services (CMS), Chiquita Brooks-LaSure, having reviewed and approved this document, authorizes Lynette Wilson, who is the Federal Register Liaison, to electronically sign this document for purposes of publication in the Federal Register.

Dated: November 9, 2022.
Lynette Wilson,
Federal Register Liaison, Centers for Medicare & Medicaid Services.

[FR Doc. 2022-24811 Filed 11-14-22; 8:45 am]

BILLING CODE 4120-01-P